DEPARTMENT OF THE TREASURY

Financial Crimes Enforcement Network

Bank Secrecy Act Advisory Group; Solicitation of Application for Membership

AGENCY: Financial Crimes Enforcement Network (FinCEN), Treasury.

ACTION: Notice and request for nominations.

SUMMARY: FinCEN is inviting the public to nominate financial institutions, trade groups, and non-Federal regulators or law enforcement agencies for membership in the Bank Secrecy Act Advisory Group. New members will be selected for three-year membership terms.

DATES: Nominations must be received by January 6, 2025.

ADDRESSES: Nominations must be emailed to BSAAG@fincen.gov.

FOR FURTHER INFORMATION CONTACT: FinCEN Regulatory Support Section at frc@fincen.gov.

SUPPLEMENTARY INFORMATION: Section 1564 of the Annunzio-Wylie Anti-Money Laundering (AML) Act of 1992 required the Secretary of the Treasury to establish a Bank Secrecy Act Advisory Group (BSAAG) consisting of representatives from federal agencies and other interested persons and financial institutions subject to the regulatory requirements of the Bank Secrecy Act, found at 31 CFR chapter X. The BSAAG is the means by which the Treasury receives advice on the reporting requirements of the Bank Secrecy Act (BSA) and informs private sector representatives on how the information they provide is used. As chair of the BSAAG, the Director of FinCEN is responsible for ensuring that relevant issues are placed before the BSAAG for review, analysis, and discussion.

BSAAG membership is open to financial institutions subject to the BSA, trade groups that represent financial institutions subject to the BSA, and federal and non-federal regulators and law enforcement agencies that are located within the United States.¹

¹ Because they are not directly subject to the vast majority of BSA requirements themselves, entities that solely provide software products or services or consulting services for financial institutions are not independently eligible for BSAAG membership.

FinCEN is especially interested in receiving nominations for eligible entities (as described above) that can share insights on compliance with the Corporate Transparency Act and FinCEN's implementing regulations. In September of 2022, FinCEN published a final rule that implemented a new beneficial ownership information (BOI) reporting requirement, codified at 31 CFR 1010.380.² This rule implements section 6403 of the Corporate Transparency Act (CTA), which was enacted as part of the Anti-Money Laundering Act of 2020 in the National Defense Authorization Act for Fiscal Year 2021.³ The BOI reporting rule requires certain types of domestic and foreign entities, called “reporting companies,” to report information about their beneficial owners, the persons who ultimately own or control the company, to FinCEN. Eligible entities that are interested in focusing on CTA compliance should provide a clear explanation of how their perspectives can also enhance broader BSAAG discussions, including discussions about the BSA generally.

² FinCEN Issues Final Rule for Beneficial Ownership Reporting To Support Law Enforcement Efforts, Counter Illicit Finance, and Increase Transparency | FinCEN.gov.

³ The CTA is title LXIV of the William M. (Mac) Thornberry National Defense Authorization Act for Fiscal Year 2021, Public Law 116-283 (Jan. 1, 2021) (NDAA). Division F of the NDAA is the Anti-Money Laundering Act of 2020, which includes the CTA. Section 6403 of the CTA, among other things, amended the BSA by adding a new section 5336, Beneficial Ownership Information Reporting Requirements, to subchapter II of chapter 53 of title 31, United States Code.

We also continue to welcome nominations from other eligible entities that can actively share their perspectives on a variety of BSA requirements. Each member selected will serve a three-year term and must designate one individual to represent that member at plenary meetings. While BSAAG membership is granted to organizations, not to individuals, the designated representative for each selected organization should be knowledgeable about BSA requirements and be willing and able to devote the necessary time and effort on behalf of the representative's organization. Members are expected to actively share anecdotal perspectives, quantifiable insights on BSA requirements, and industry trends in BSAAG discussions. The organization's representative must be able to attend biannual plenary meetings, generally held in Washington, DC, over one or two days, generally in May and October. Additional BSAAG meetings may be held by phone, videoconference, or in person, and the organization's representative is expected to actively engage in the BSAAG's work through participation in meetings of various BSAAG Subcommittees and/or working groups, including Subcommittees established pursuant to the Anti-Money Laundering Act of 2020 (AML Act).⁴ Members will not be paid for their time, services, or travel.

⁴ The AML Act was enacted as division F, sections 6001-6511, of the NDAA. The AML Act, among other provisions, mandated the creation of a BSAAG Subcommittee on Innovation and Technology (section 6207) and a BSAG Subcommittee on Information Security and Confidentiality (section 6302).

Nominations for individuals who are not representing an organization will not be considered, but organizations may nominate themselves. Organizations should only submit nominations on behalf of their own organization and not on behalf of another organization. Please provide complete answers to the following items, as nominations will be evaluated based on the information provided in response to this notice and request for nominations. There is no required format; interested organizations may submit their nominations electronically (e.g., email or email attachment). Nominations should include the following information:

• Name of the organization requesting membership;

• Point of contact, title, address, email address, and phone number;

• Description of the financial institution, trade group, regulator, self-regulatory organization (SRO), or law enforcement agency involved with the BSA;

• Reasons why the organization's participation on the BSAAG will bring value to the group; and

• Trade groups must submit a full list of their members along with their nomination. Trade groups must also confirm that, if selected, they will only share BSAAG information with their members that are located within the United States.

In making the selections, FinCEN will seek to complement current BSAAG members and obtain comprehensive representation in terms of affiliation, industry, and geographic representation. The Director retains full discretion on all membership decisions. The Director may consider prior years' applications when making selections and will not limit consideration to entities nominated by the public when making selections.

Andrea M. Gacki,
Director, Financial Crimes Enforcement Network.

[FR Doc. 2024-28451 Filed 12-4-24; 8:45 am]

BILLING CODE 4810-02-P